INTERNATIONAL TRADE COMMISSION

[Inv. No. 337-TA-562]

In the Matter of Certain Incremental Dental Positioning Adjustment Appliances and Methods of Producing Same; Notice of Commission Decision Not To Review the Administrative Law Judge's Initial Determination Granting a Joint Motion To Terminate the Investigation Based on a Consent Order

AGENCY: International Trade Commission.

ACTION: Notice.

SUMMARY: Notice is hereby given that the U.S. International Trade Commission has determined not to review the initial determination (“ID”) of the presiding administrative law judge (“ALJ”) granting a joint motion to terminate the investigation based on a consent order.

FOR FURTHER INFORMATION CONTACT: James A. Worth, Esq., Office of the General Counsel, U.S. International Trade Commission, 500 E Street, S.W., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission based on a complaint filed by Align Technology, Inc. of Santa Clara, California. 71 FR 7995 (Feb. 15, 2006). The complaint alleged violations of section 337 of the Tariff Act of 1930, as amended, 19 U.S.C. 1337, in the importation into the United States, the sale for importation, and the sale within the United States after importation of certain incremental dental positioning adjustment appliances by reason of infringement of certain claims of U.S. Patent Nos. 6,685,469; 6,450,807 (“the ‘807 patent”); 6,394,801; 6,398,548; 6,722,880; 6,629,840; 6,699,037; 6,318,994; 6,729,876; 6,602,070; 6,471,511; and 6,227,850. The complaint also alleged violation of section 337 by reason of misappropriation of trade secrets. The complaint and notice of investigation named OrthoClear, Inc., of San Francisco, California; OrthoClear Holdings, Inc., of Tortola, British Virgin Islands; and OrthoClear Pakistan Pvt, Ltd., of Lahore, Pakistan as respondents.

On July 10, 2006, the ALJ issued an ID terminating the investigation with respect to the ‘807 patent. On July 20, 2006, the Commission determined not to review this ID.

On October 13, 2006, complainant Align Technology, Inc. and respondents OrthoClear, Inc.; OrthoClear Holdings, Inc.; and OrthoClear Pakistan Pvt., Ltd. filed a joint motion to terminate the investigation based on a consent order. On October 25, 2006, the Commission investigative attorney filed a response in support of the motion. On October 27, 2006, the ALJ issued the subject ID (Order No. 32), granting the joint motion. No petitions for review have been filed. The Commission has determined not to review the subject ID.

This action is taken under the authority of section 337 of the Tariff Act of 1930, 19 U.S.C. 1337, and Commission Rules 210.21, 210.42(h), 19 CFR 210.21, 210.42(h).

Issued: November 13, 2006.
By order of the Commission.
Marilyn R. Abbott,
Secretary to the Commission.

[FR Doc. E6-19489 Filed 11-16-06; 8:45 am]

BILLING CODE 7020-02-P